DEPARTMENT OF TRANSPORTATION

Pipeline and Hazardous Materials Safety Administration

[Docket No. PHMSA-2012-0116; Notice No. 12-6]

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the 41st session of the United Nations Sub-Committee of Experts on the Transport of Dangerous Goods (UNSCOE TDG) to be held June 25 to July 4, 2012, in Geneva, Switzerland. During this meeting, PHMSA is also soliciting comments relative to potential new work items which may be considered for inclusion in its international agenda.

Information Regarding the UNSCOE TDG Meeting

DATES: Wednesday, June 13, 2012; 9 a.m.-12 noon.

ADDRESSES: The meeting will be held at the DOT Headquarters, West Building, Conference Rooms 8-10, 1200 New Jersey Avenue SE., Washington, DC 20590.

Registration: Attendees may pre-register for this meeting by completing the form at http://www.phmsa.dot.gov/hazmat/regs/international. Failure to pre-register may delay your access to the building. Attendees are encouraged to arrive early to allow time for security checks necessary to obtain access to the building.

Conference Call Capability/Live Meeting Information: Conference call-in and “live meeting” capability will be provided for this meeting. Call in information is as follows:

Toll Free: (800) 260-0712.

Participant Access Code: 242757.

Specific information on live meeting access will be posted when available at http://www.phmsa.dot.gov/hazmat/regs/international.

FOR FURTHER INFORMATION CONTACT: Mr. Vincent Babich or Mr. Steven Webb, Office of Hazardous Materials Safety, Department of Transportation, Washington, DC 20590; (202) 366-8553.

SUPPLEMENTARY INFORMATION: The primary purpose of this meeting will be to prepare for the 41st session of the UNSCOE TDG. The 41st session of the UNSCOE TDG is the third of four meetings scheduled for the 2011-2012 biennium. The UNSCOE TDG will consider proposals for the 18th Revised Edition of the United Nations Recommendations on the Transport of Dangerous Goods Model Regulations which will be implemented within relevant domestic, regional, and international regulations from January 1, 2015. Copies of working documents, informal documents, and the meeting agenda may be obtained from the United Nations Transport Division's Web site at http://www.unece.org/trans/main/dgdb/dgsubc3/c3age.html.

General topics on the agenda for the UNSCOE TDG meeting include:

• Explosives and related matters.

• Listing, classification and packing.

• Electric storage systems.

• Miscellaneous proposals of amendments to the Model Regulations.

• Electronic data interchange (EDI) for documentation purposes.

• Cooperation with the International Atomic Energy Agency (IAEA).

• Global harmonization of transport of dangerous goods regulations.

• Guiding principles for the Model Regulations.

• Globally Harmonized System of Classification and Labeling of Chemicals (GHS).

Following the 41st session of the UNSCOE TDG, a copy of the Sub-Committee's report will be available at the United Nations Transport Division's Web site at http://www.unece.org/trans/main/dgdb/dgsubc3/c3rep.html. PHMSA's site at http://www.phmsa.dot.gov/hazmat/regs/international provides additional information regarding the UNSCOE TDG and related matters.

Issued in Washington, DC, on May 29, 2012.
William Schoonover,
Deputy Associate Administrator, Field Operations, Pipeline and Hazardous Materials Safety Administration.

[FR Doc. 2012-13399 Filed 6-1-12; 8:45 am]

BILLING CODE 4910-60-P